DEPARTMENT OF TRANSPORTATION

Federal Aviation Administration

Eleventh Meeting: RTCA Special Committee 214: Working Group 78: Standards for Air Traffic Data Communication Services

AGENCY: Federal Aviation Administration (FAA), DOT.

ACTION: Notice of RTCA Special Committee 214: Working Group 78: Standards for Air Traffic Data Communication Services.

SUMMARY: The FAA is issuing this notice to advise the public of a meeting of the RTCA Special Committee 214: Working Group 78: Standards for Air Traffic Data Communication Services.

DATES: The meeting will be held November 15-19, 2010 from 9 a.m.-5 p.m.

ADDRESSES: The meeting will be held at Lockheed Martin Information Systems and Global Solutions, 9231 Corporate Blvd., Rockville, Maryland 20850. Host: Paul Mettus.

SUPPLEMENTARY INFORMATION: Pursuant to section 10(a)(2) of the Federal Advisory Committee Act (Pub. L. 92-463, 5 U.S.C., Appendix 2), notice is hereby given for a RTCA Special Committee 214: Working Group 78: Standards for Air Traffic Data Communication Services meeting. The agenda will include:

Additional Information

Additional information and all the documents to be considered can be found in the Web site http://www.faa.gov/go/SC214.

Meeting Objectives

• Review planning and content of SPR and INT drafts version 0.H and 0.I.

• Complete draft Validation Plan.

• Review progress Oceanic/Continental Integration.

• Agree on approach for Oceanic/Continental Integration.

• Review of Position Papers.

• Duration of the committee (currently until end of 2011).

• Publication approach (one or two publications).

• Possible Impact of the ATMAC recs (meeting October 28th).

• Benefits Oceanic/Continental Integration Approach.

• Now TORS(OCL/DSC, update ED 154/Doxxx, * * *).

• Outcome FRAC/consultation DO306/ED 122 and Publication.

• Seamless ATS Data Link and Patent Status.

• A/G Trajectory Information Exchange.

• Backward Compatibility of Data link Implementations (e.g. 214/78 A/C with ATNB1 ground systems (and vice versa); integrate and non-integrated avionics solutions).

• Position Papers shall be provided to the Co-Chairman by October 31st, 2010.

• Review and Update the work plan; and Plenary/Subgroup meetings plan for 2011.

Agenda

Day 1, Monday 15 November, 2010

09:00-12:30 Plenary Session

• Welcome/Introductions/Administrative Remarks.

• Approval of the Agenda.

• Approval of the Summary of Plenary 10.

• Review Action Item Status.

• Coordination Activities.

• Briefing from other SCs and WGs.

• Briefing from recent ICAO NAT and OPLINK meetings.

• Outcome FRAC/Consultation DO306/ED122 Change 1.

• Review of Work so far.

• SPR & INT documents version H and I.

• SC-214/WG-78 TORs and Work Plan.

• Review of Position Papers and Contributions.

13:30-17:00: Plenary Session

• Continuation Review of Position Papers and Contributions.

• Approval of Sub-Group Meeting Objectives.

Day 2, Tuesday November 15, 2010 9:00-17:00 Sub-Group Sessions

Day 3, Wednesday November 16, 2010 9:00-17:00 Sub-Group Sessions

Day 4, Thursday November 18, 2010 9:00-17:00 Plenary Session

• Briefing from SC 186/WG51 on Flight Interval Management (FIM) Status.

• Configuration Sub-Group Report & Assignment of Action Items.

• Validation Sub-group Report & Assignment of Action Items.

• VDL Sub-group Report & Assignment of Action Items.

• Review Dates and Locations 2011 Plenary and SG Meetings.

• Any Other Business.

• Adjourn.

Day 5, Friday November 19, 2010 Sub-Group Sessions

9:00-16:00: Sub-Group Sessions

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on October 20, 2010.
Robert L. Bostiga,
RTCA Advisory Committee.

[FR Doc. 2010-27260 Filed 10-28-10; 8:45 am]

BILLING CODE 4910-13-P